DEPARTMENT OF HOMELAND SECURITY

Coast Guard

33 CFR Part 117

[Docket No. USCG-2016-1039]

Drawbridge Operation Regulation; Sloop Channel, Nassau, NY

AGENCY: Coast Guard, DHS.

ACTION: Notice of deviation from drawbridge regulation.

SUMMARY: The Coast Guard has issued a temporary deviation from the operating schedule that governs the Wantagh Parkway Bridge, mile 15.4 and the Meadowbrook State Parkway Bridge, mile 12.8, both across Sloop Channel, at Nassau, New York. This temporary deviation is necessary to facilitate public safety during a public event, the Jones Beach State Park U.S. Air Force Thunderbirds Air Show. This deviation allows the bridges to remain in the closed position during the public event.

DATES: This deviation is effective from 4 p.m. on May 27, 2017 to 7 p.m. on May 28, 2017.

ADDRESSES: The docket for this deviation, [USCG-2016-1039] is available at http://www.regulations.gov. Type the docket number in the “SEARCH” box and click “SEARCH”. Click on Open Docket Folder on the line associated with this deviation.

FOR FURTHER INFORMATION CONTACT: If you have questions on this temporary deviation, call or email Ms. Judy K. Leung-Yee, Project Officer, First Coast Guard District, telephone (212) 514-4330, email judy.k.leung-yee@uscg.mil.

SUPPLEMENTARY INFORMATION: New York State Office of Parks, Recreation and Historic Preservation requested and the bridge owner for both bridges, the State of New York Department of Transportation, concurred with this temporary deviation from the normal operating schedule to facilitate public safety at the Jones Beach State Park U.S. Air Force Thunderbirds Air Show.

The Wantagh Parkway Bridge, mile 15.4, across Sloop Channel has a vertical clearance in the closed position of 16 feet at mean high water and 19.5 feet at mean low water. The existing bridge operating regulations are found at 33 CFR 117.5.

The Meadowbrook State Parkway Bridge, mile 12.8, across Sloop Channel has a vertical clearance in the closed position of 22 feet at mean high water and 25 feet at mean low water. The existing bridge operating regulations are found at 33 CFR 117.799(h).

Sloop Channel is transited by commercial fishing and recreational vessel traffic.

Under this temporary deviation, the Wantagh Parkway and the Meadowbrook State Parkway Bridges may remain in the closed position between 4 p.m. and 7 p.m. on May 27, 2017 and between 4 p.m. and 7 p.m. on May 28, 2017.

Vessels able to pass under the bridge in the closed position may do so at any time. The bridges will not be able to open for emergencies and there are no immediate alternate routes for vessels to pass.

The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: December 19, 2016.
C.J. Bisignano,
Supervisory Bridge Management Specialist, First Coast Guard District.

[FR Doc. 2016-30866 Filed 12-21-16; 8:45 am]

BILLING CODE 9110-04-P